DEPARTMENT OF THE INTERIOR

National Park Service

Final Environmental Impact Statement/Non-Native Deer Management Plan Point Reyes National Seashore; Marin County, CA; Notice of Availability

SUMMARY: Pursuant to section 102(2)(C) of the National Environmental Policy Act of 1969 (Pub. L. 91-190, as amended), and the Council on Environmental Quality Regulations (40 CFR part 1500-1508), the national Park Service, Department of the Interior has prepared a Final Environmental Impact Statement (FEIS) identifying and evaluating five alternatives for a Non-Native Deer Management Plan for Point Reyes National Seashore administered lands. When approved, the plan will guide the NPS in managing the herds of non-native deer over the next two decades on all lands administered by Point Reyes National Seashore. Through the FEIS, the potential impacts of a “no action” alternative and four “action” alternatives are assessed and, where appropriate, mitigation measures are applied to reduce the intensity of the potential effect or to avoid the potential effect. Five other preliminary alternatives were considered but rejected because they did not achieve the objectives of the non-native deer management plan or were infeasible.

Planning Background

Axis deer ((Axis axis) are native to India and European fallow deer (Dama dama) are native to Asia Minor and the Mediterranean region. Axis and fallow deer were introduced to the point Reyes area in the 1940s and 1950s by local ranchers, before establishment of the Seashore. Between 1976 and 1994, the NPS controlled the populations of the herds by shooting the deer and more than 2,000 non-native deer were culled during this 18-year period. Culling was discontinued in 1994 in response to budgetary and public concerns. For the past 16 years, the NPS has not actively managed the non-native deer and their numbers and overall range have increased to, or surpassed, pre-control levels. Seashore staff estimates current numbers of axis and fallow deer to be approximately 250 and 860, respectively.

Description of the Planning Area

The planning area for the Non-Native Deer Management Plan (NNDMP) includes NPS lands located approximately 40 miles northwest of San Francisco in Marin County, California. These lands include the 70,046-acre Point Reyes National Seashore, comprised primarily of beaches, coastal headlands, extensive freshwater and estuarine wetlands, marine terraces, and forests; as well as 18,000 acres of the Northern District of golden Gate National Recreation Area (GGNRA), primarily supporting annual grasslands, coastal scrub, and Douglas-fir and coast redwood forests. Thirty-five percent, or 32,000 acres, of Seashore lands are managed and protected as Wilderness.

Purpose and Need for the Federal Action

The primary problems resulting from the presence of non-native deer in the planning area are their interference with native species and native ecosystems; conflicts with the laws, regulations and NPS policies regarding restoration of natural conditions and native species; the impacts on ranchers in the parks; and by affecting park operations and budget. In addition there is the potential for each of these impacts to increase should deer populations expand beyond park boundaries.

As a unit of the NPS, PRNS is governed by a set of laws, regulations and polices including the 2001 Management Policies, and it is the set of rules as well as research data, standard biological and ecological peer-reviewed literature, and public and agency input that the park has used to develop the non-native deer management alternative. Management Policies Section 4.4.1.3 clearly defines “native species” as all species that have occurred or now occur as a result of natural processes on lands designated as units of the national park system. “Exotic species” are those species that occupy park lands directly or indirectly as the result of deliberate or accidental human activities. Units of the NPS are charged to “re-establish natural functions and process in human-disturbed components of natural systems (sec 4.1.5).” The presence and recent population and range expansion of non-native axis and fallow deer in the park is adversely impacting many elements of the natural ecosystem including; competition with, and displacement of, native tule elk and black-tailed deer; the documented potential for transmitting disease to these native ungulates; and degradation of important riparian and oak woodland habitats. If the non-native deer continue to spread unabated, their expansion outside PRNS boundaries could result in these adverse impacts occurring to natural areas throughout Marin County.

The objectives of theNNDMP are:

• To correct past and ongoing disturbances to Seashore ecosystems from introduced non-native ungulates and thereby to contribute substantially to the restoration of naturally functioning native ecosystems.

• To minimize long-term impacts, in terms of reduced staff time and resources, to resource protection programs at the Seashore, incurred by continued monitoring and management of non-native ungulates.

• To prevent spread of populations of both species of non-native deer beyond Seashore and GGNRA boundaries.

• To reduce impacts of non-native ungulates caused by direct consumption of forage, transmission of disease to livestock and damage to fencing to agricultural permittees within pastoral areas.

Proposed Non-Native Deer Management Plan

Alternative E has been identified as the preferred alternative in the Draft EIS and the FEIS. Under this alternative (Removal of All Non-Native Deer by a Combination of Agency Removal and Fertility Control), all axis and fallow deer in the planning area would be eradicated by the year 2021 through a combination of lethal removal and contraception. Culling would be conducted by NPS staff or contractors specifically trained in wildlife sharpshooting. The contraceptive program would incorporate the latest contraceptive technologies to safely prevent reproduction, for as long as possible, and with minimal treatments per animal. Because no long-acting “sterilant” has been registered for use in wildlife by the U.S. Environmental Protection Agency (EPA), data on safe and efficacious use of a candidate drug would have to be submitted to the EPA by a sponsoring agency or research group before it could be used at PRNS on the basis of experimental management and population control. Population models of fallow deer at PRNS indicate that under this alternative, if the contraceptive used was effective in blocking fertility for at least 4 years, eradication could be accomplished with fewer fallow deer lethally removed. Because effectiveness of long-term contraceptives on axis deer is unknown, similar models are not yet developed for this species. Studies on sterilant efficacy and monitoring of deer population response to treatment will be used adaptively to guide or refine non-native deer management activities. The goal will be to maximize benefits to natural resources and minimize safety risks to NPS staff, while striving to reduce numbers of animals killed.

Principal Differences Between the Draft and Final EIS

Wildlife monitoring in the PRNS is ongoing and the analysis in the FEIS on impacts of non-native deer has been supplemented by new information since the Draft EIS was published, including the following: A U.S. Geological Survey analysis of the impacts of non-native deer on native black-tailed deer (Fellers, 2006), a U.S. Geological survey report on the impacts of “lekking” fallow deer to woodland and riparian vegetation and soils (Fellers and Osbourn, 2006), and a Humboldt State University report on dietary overlap between fallow deer and native tule elk (Fallon-McKnight, 2006). Based on consideration of the results of these studies and other information, which elucidated the adverse impacts of non-native deer on natural resources, discussion in the FEIS of the following resource topics—water resources, soils, vegetation, and wildlife impact—was revisited and conclusions about intensity were clarified.

Information on wildlife contraceptive agents under development (e.g., GonaCon ® and others) and costs has been updated. Information regarding contraceptive agents withdrawn from availability and changes in regulatory authority over these agents was added to the FEIS. This new information became available after release of the Draft EIS and was obtained from experts in the filed of wildlife contraceptive and from the EPA.

Consideration of the recent studies and new information did not necessitate substantively altering the proposal, nor were conclusions about significant of foreseeable environmental consequences substantially changed.

Alternatives to Proposed Plan

The FEIS for the NNDMP analyzes four alternatives in addition to the preferred alternative. Alternatives E and D (Removal of all Non-Native Deer by Agency Removal) were both identified in the Draft EIS as “environmentally preferred” and are considered equally likely to best protect the biological and physical environment of the planning area. Both would strive to accomplish eradication of non-native deer within 20 years and consequently would result in cessation of new adverse impacts caused by non-native deer to wildlife, vegetation, soils, special status species, water resources, and park operations.

Alternative A—No Action. This “baseline” alternative represents the current non-native deer management program. It would perpetuate the non-native deer management practices undertaken since 1994, when ranger culling was discontinued. No actions to control the size of non-native deer populations would be taken. In order to ensure protection of native species and ecosystems, continued monitoring for at least 20 years would be an integral part of this alternative as well as all other alternatives considered.

Alternative B—Control of Non-Native Deer at Pre-Determined Levels by Agency Removal. Alternative B would focus on the use of lethal control to reduce the size of non-native deer populations. Culling would be conducted by NPS staff or contractors specifically trained in wildlife sharpshooting. Non-native deer populations would be maintained at a level of 350 for each species (700 total axis and fallow deer). Because fallow deer concentrations are currently higher than this, and axis deer populations are lower than this target, the focus of initial reductions would be on fallow deer. This target population level was chosen because of its history, and for management reasons. However, the number would be re-evaluated by resource managers regularly and could be changed based on results of ongoing monitoring programs. Efforts would be made to reach target levels in 15 years and to ensure continued unharmful presence of both species in the Seashore. Because fallow deer numbers currently exceed 350 animals, and axis deer have historically done so, any chosen population control method would need to be used in perpetuity to maintain each species at this population size. Because the management time frame is very long (theoretically lasting forever), the total numbers of deer lethally removed could be very high, and operational and monitoring costs would not be minimized.

Alternative C—Control of Non-Native Deer at Pre-Determined Levels by Agency Removal and Fertility Control. As in Alternative B, non-native deer populations would be maintained at a level of 350 for each species (700 total axis and fallow deer), but through a combination of lethal removals and fertility control. This target population level was chosen based on historical records and for management reasons. However, the targeted population number would be re-evaluated by resource managers regularly and could be changed based on results of ongoing monitoring programs and practical adaptive management. Culling would be conducted by NPS staff or contractors specifically trained in wildlife sharpshooting. The contraceptive program would be similar to that for Alternative E.

Because fallow deer numbers are currently higher than 350, and axis deer populations are lower than this target, the focus of initial reductions would be on fallow deer. Efforts would be made to reach target levels in 15 years. Because the goal of this alternative will be to control axis and fallow deer at a specified level and not to eradicate them from PRNS, annual culling and fertility control would continue indefinitely, and operational and monitoring costs would not be minimized. Because the management time frame is very long (theoretically lasting forever), the total numbers of deer removed and treated with contraceptives could also be very high under this alternative.

Alternative D—Removal of All Non-Native Deer by Agency Personnel. In Alternative D, all axis and fallow deer inhabiting PRNS and the GGNRA lands administered by the Seashore would be eradicated through lethal removal (shooting) by 2021 through annual shooting. Culling would be conducted by NPS staff or contractors specifically trained in wildlife sharpshooting. The management actions included in this alternative would continue until both species were extirpated, with a goal of full removal in a minimum of 13 years and no more than 20 years. In comparison to the alternatives that rely on contraception, Alternative D minimizes the overall total number of deer removed (a longer period of removal would mean more fawns are born and more total deer are killed), and is reasonable from a cost and logistics standpoint. Monitoring during program implementation would be done to assess program success and to guide adjustments in the location, intensity and logistics of removal.

Actions Common to All Alternatives—In order to ensure protection of native species and ecosystems and to assess success of any management program, continued monitoring for at least 15 years would be an integral part of any alternative chosen. Regardless of the alternatives selected, all actions involving direct management of individual animals, ranging from aerial surveillance to live capture and lethal removal, would be conducted in a manner which minimizes stress, pain and suffering to every extent possible. All actions occurring within desginated Wilderness, from monitoring to active deer management, would be consistent with the minimum requirement concept.

Summary of Public Engagement

On December 5, 2001, representatives of public agencies were invited to attend an informational meeting at the Seashore, with the objective of conferring with those agencies about updating the park's non-native deer management plan. On April 10, 2002, a Notice of Scoping was published in the Federal Register and in local newspapers. Public scoping comments were solicited at a public information meeting held at the Point Reyes Dance Palace on May 4, 2002. Written scoping comments were accepted through July 5, 2002. All those who sent written comments dfurign the scoping period and who gave a return mailing address were included in the NNDMP mailing list. During the February-July 2002 period, PRNS staff gave numerous presentations to local and state public groups on the NNDMP conservation planning process and provided background information on non-native deer. Audiences ranged from local homeowners and ranchers' associations to local branches of national environmental and animal rights groups.

The Draft EIS was made available for public review and comment for 63 days, from February 4, 2005 through April 8, 2005. Midway through the public comment period, on March 3, 2005, an informational meeting was held int he Red Barn Classroom at Seashore Headquarters. Approximately 60 people attended the 3-hour meeting and posed questions to a panel of scientists and staff or expressed their concerns and preferences regarding the plan and management alternatives. Audience members were informed of a number of ways to submit comments on the NNDMP either that night at the meeting, or by mail/e-mail by April 8, 2005. Some comment letters arrived past the end of the comment period (up to April 19, 2005) but were nontheless included as part of the public comment received. During the comment period, the NPS received a total of 1,980 peices of correspondence (including letters, e-mails, fascimiles, and hand-delivered comment forms), containing 4450 individual comments. Ninety-four percent of the comments were sent in by individual members of the public and the remainder were received from environmental, professional, and recreational groups, civic organizations, and government agencies. All comments were carefully reviewed, and responses to substantive comments were prepared for inclusion in the FEIS. Where warranted, portions of the FEIS reflect edits to the Draft EIS text in response to salient recommendations from some commentors or to provide clarification in view of concerns brought up by the public. And as noted above, new studies and technical information not available prior to release of the Draft EIS are discussed. All comments received are included in the administrative record.

In conformance with Section 7 of the Endangered Species Act, on March 26, 2003, PRNS initiated the consultation process with the U.S. Fish and Wildlife Service (USFWS) and the National Marine Fisheries Service (NMFS). On March 10, 2005, the park requested concurrence from USFWS with its finding that the proposed plan would be not likely to adversely affect nine plant and wildlife species or the proposed critical habitat for the California red-legged frog or adversely affect nine plant and animal species during implementation of the preferred alternative. On April 7, 2005, the USFWS concurred with the park's findings that measures in the proposed plan are sufficient to reduce any direct, indirect, and cumulative effects to the nine listed species and proposed critical habitat to an insignificant or discountable level. With the issuance of this memo, the USFWS concluded its consultation process for the NNDMP.

On March 28, 2005, PRNS transmitted a letter to the NMFS with regard to potential effects on listed anadromous fish species and fish habitat within the planning area. PRNS clarified that no proposed actions would take place in creeks, waterways, or riparian areas and therefore the proposed project is not likely to adversely affect central California coast environmentally significant unit (ESU) coho salmon, central California coast ESU steelhead, California coastal ESU Chinook salmon, Designated Critical Habitat for central California coast ESU coho salmon, or Essential Fish Habitat for coho salmon and Chinook salmon. NMFS concurred with the park's findings in a letter to the NPS on May 3, 2005, ending the information consultation process.

ADDRESSES: New requests for copies of the FEIS may be sent to the Superintendent, Attn: NNDMP, Point Reyes National Seashore, Point Reyes, CA 94956 (or by e-mail request to: Ann_Nelson@nps.gov—in the subject line, type: NNDMP). The document will be sent directly to those who received the DEIS or previously have requested it, and it is also available in electronic format at the NPS's Planning, Environment, and Public Comment Web site http://parkplanning.nps.gov/pore. Both the printed document and digital version on compact disk will be available at the park headquarters and local libraries. Any correspondence regarding the NNDMP should be addressed to the Superintendent either by mail or e-mail (see addresses above). Please note that names and addresses of all respondents will become part of the public record. It is the practice of the NPS to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials or organizations or businesses, available for public inspection in their entirety.

Decision

As a delegated EIS, the official responsible for the final decision is the Regional Director, Pacific West Region. A Record of Decision, documenting the environmental decision-making process on the NNDMP will be prepared not sooner than 30 days following the publication in the Federal Register of the EPA's notice of filing and availability of the Final EIS. Subsequently and prior to implementation, notice of approval of the Record of Decision will be posted in the Federal Register and announced via local and regional news media. Following approval of the Non-Native Deer Management Plan, the official responsible for implementation will be the Superintendent, Point Reyes National Seashore.

Dated: April 7, 2006.
Jonathan B. Jarvis,
Regional Director, Pacific West Region.

[FR Doc. 06-6973 Filed 8-16-06; 8:45 am]

BILLING CODE 4312-FW-M